DEPARTMENT OF ENERGY

Federal Energy Regulatory Commission

[Docket Nos. CP06-335-000 and CP96-810-006]

Maritimes & Northeast Pipeline, L.L.C.; Notice of Application

May 26, 2006.

Take notice that on May 16, 2006, Maritimes & Northeast Pipeline, L.L.C. (Maritimes), 890 Winter Street, Suite 300, Waltham, Massachusetts 02451, filed in Docket No. CP06-335-000, an application pursuant to section 7 of the Natural Gas Act (NGA) for authorization to construct, own, operate and maintain certain pipeline facilities, consisting of approximately 99,000 horsepower of compression at five new compressor stations and two existing compressor stations and approximately 1.7 miles of pipeline loop, all as more fully set forth in the application which is on file with the Commission and open to public inspection. Additionally, in Docket No.CP96-810-006, Maritimes seeks an amendment to its authorization under section 3 of the NGA and its Presidential Permit to construct and operate facilities for the importation of natural gas, reflecting increased volumes of natural gas to be imported in connection with the proposed facilities. This filing may be also viewed on the Web at http://www.ferc.gov using the “eLibrary” link. Enter the docket number excluding the last three digits in the docket number field to access the document. For assistance, call (866) 208-3676 or TTY, (202) 502-8659.

Any questions concerning this application may be directed to Steven E. Tillman, General Manager, Regulatory Affairs, M&N Management Company, 5400 Westheimer Court, P.O. Box 1642, Houston, Texas 77251-1642.

There are two ways to become involved in the Commission's review of this project. First, any person wishing to obtain legal status by becoming a party to the proceedings for this project should, before the comment date of this notice, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's Web site under the “e-Filing” link.

Comment Date: 5 p.m. Eastern Time on June 16, 2006.

Magalie R. Salas,
Secretary.

[FR Doc. E6-8597 Filed 6-1-06; 8:45 am]

BILLING CODE 6717-01-P